DEPARTMENT OF COMMERCE

National Oceanic and Atmospheric Administration

[I.D.030501A]

Endangered and Threatened Species; Take of Anadromous Fish

AGENCY: National Marine Fisheries Service (NMFS), National Oceanic and Atmospheric Administration (NOAA), Commerce.

ACTION: Notice of availability and request for comment.

SUMMARY: The Washington Department of Fish and Wildlife and the Point-No-Point Treaty Tribes submitted a jointly developed Resource Management Plan (RMP), Summer Chum Salmon Conservation Initiative - An Implementation Plan to Recover Summer Chum Salmon in the Hood Canal and Strait of Juan de Fuca Region, pursuant to the protective regulations promulgated for the Hood Canal Summer-Run chum salmon Evolutionary Significant Unit (ESU) under the Endangered Species Act (ESA). The RMP specifies the future management of commercial, recreational and tribal salmon fisheries potentially affecting listed Hood Canal and Strait of Juan de Fuca summer-run chum salmon. This document serves to notify the public of the availability for comment of the proposed evaluation of the Secretary of Commerce (Secretary) as to how the RMP addresses the criteria in the ESA.

DATES: Written comments on the Secretary’s evaluation must be received at the appropriate address or fax number (see ADDRESSES) no later than 5 p.m. Pacific Standard Time on March 30, 2001.

ADDRESSES: Written comments and requests for copies of the proposed evaluation should be addressed to Keith Schultz, Sustainable Fisheries Division, National Marine Fisheries Service, 7600 Sand Point Way NE, Seattle, WA 98115-0070. Comments may also be sent via fax to 206/526-6736. The document is also available on the Internet at http://www.nwr.noaa.gov/, Sustainable Fisheries Division site. Comments will not be accepted if submitted via e-mail or the Internet.

FOR FURTHER INFORMATION CONTACT: Keith Schultz at phone number: 206/526-4447, or e-mail: keith.schultz@noaa.gov regarding the RMP.

The Summer Chum Salmon Conservation Initiative - An Implementation Plan to Recover Summer Chum Salmon in the Hood Canal and Strait of Juan de Fuca Region is available on the Internet at the State of Washington, Department of Fish and Wildlife web site http://www.wa.gov/wdfw/fish/chum/chum.htm.

SUPPLEMENTARY INFORMATION: This notice is relevant to the Hood Canal summer-run chum salmon (Oncorhynchus keta) Evolutionarily Significant Unit (ESU).

Background

The Washington Department of Fish and Wildlife and the Point-No-Point Treaty Tribes have provided a jointly developed RMP for Hood Canal and Strait of Juan de Fuca summer-run chum salmon. The RMP encompasses fisheries within the range of the Hood Canal summer-run chum salmon ESU. Harvest objectives specified in the RMP account for fisheries-related mortality throughout the migratory range of Hood Canal and Strait of Juan de Fuca summer-run chum salmon-from Northern British Columbia, Canada to South Puget Sound. The RMP also includes implementation, monitoring and evaluation procedures designed to ensure fisheries are consistent with these objectives.

As required by § 223.203 (b)(6) of the ESA 4(d) rule, the Secretary must determine pursuant to 50 CFR 223.209 and pursuant to the government to government processes therein whether the RMP for Hood Canal and Strait of Juan de Fuca summer-run chum salmon would appreciably reduce the likelihood of survival and recovery of the Hood Canal summer-run chum salmon and other affected threatened ESUs. The Secretary must take comments on how the RMP addresses the criteria in § 223.203(b)(4) in making that determination.

Authority

Under section 4 of the ESA, the Secretary is required to adopt such regulations as he deems necessary and advisable for the conservation of the species listed as threatened. The ESA salmon and steelhead 4(d) rule (65 FR 42422, July 10, 2000) specifies categories of activities that contribute to the conservation of listed salmonids and sets out the criteria for such activities. The rule further provides that the prohibitions of paragraph (a) of the rule do not apply to actions undertaken in compliance with a RMP plan developed jointly by the State of Washington and the Tribes (joint plan) and determined by the Secretary to be in accordance with the salmon and steelhead 4(d) rule (65 FR 42422, July 10, 2000).

Dated: March 7, 2001.
Phil Williams,
Acting Chief, Endangered Species Division, Office of Protected Resources, National Marine Fisheries Service.

[FR Doc. 01-6211 Filed 3-12-01; 8:45 am]

BILLING CODE 3510-22-S